DEPARTMENT OF ENERGY

National Nuclear Security Administration

Notice of Availability of the Draft Environmental Impact Statement for the Proposed Chemistry and Metallurgy Research Building Replacement Project at Los Alamos National Laboratory, Los Alamos, NM

AGENCY: U.S. Department of Energy, National Nuclear Security Administration.

ACTION: Notice of availability and public hearings.

SUMMARY: Pursuant to the National Environmental Policy Act (NEPA) of 1969, as amended (42 U.S.C. 4321 et seq.), and the DOE Regulations Implementing NEPA (10 CFR part 1021), the National Nuclear Security Administration (NNSA), an agency within the U.S. Department of Energy (DOE), announces the availability of the Draft Environmental Impact Statement for the Chemistry and Metallurgy Research Building Replacement Project at Los Alamos National Laboratory, Los Alamos, New Mexico (the Draft CMRR EIS), and the dates and locations for the public hearings to receive comments on the Draft CMRR EIS. The present Chemistry and Metallurgy Research (CMR) Building at Los Alamos National Laboratory (LANL) houses mission critical analytical chemistry, material characterization and actinide (actinides are any of a series of elements with atomic numbers ranging from actinium-89 through lawrencium-103) research and development capabilities. The Draft CMRR EIS considers the potential environmental impacts that could result due to the consolidation and relocation of these CMR capabilities from the existing aged CMR Building to a new facility such that these capabilities would be available on a long-term basis to successfully accomplish LANL mission support activities or programs. The Draft CMRR EIS also considers the no-action alternative of maintaining the CMR capabilities at the CMR Building.

DATES: The NNSA invites members of Congress, American Indian Tribal Governments, state and local governments, other Federal agencies, and the general public to provide comments on the Draft CMRR EIS. The comment period runs through June 30, 2003; the NNSA will consider all comments received or postmarked by that date. Comments postmarked after June 30, 2003, will be considered to the extent practicable. As part of the public comment period for the Draft CMRR EIS, pubic hearings will be held on June 3rd and 4th, 2003, to provide the public and stakeholders with an opportunity to present comments on the draft document, ask questions, and discuss concerns with DOE and NNSA officials regarding the Draft CMRR EIS. The dates, times, and locations for these public hearings are as follows:

June 3, 2003, 6:30 p.m.-9 p.m., Fuller Lodge, 2132 Central Avenue, Los Alamos, NM.

June 4, 2003, 6:30 p.m.-9 p.m., Cities of Gold Hotel, Highway 84/285, Pojoaque, NM.

ADDRESSES: A copy of the Draft CMRR EIS or its Summary may be obtained upon request by writing to: U.S. Department of Energy, National Nuclear Security Administration, Los Alamos Site Office, Attn: Ms. Elizabeth Withers, Office of Facility Operations, 528 35th Street, Los Alamos, New Mexico, 87544; by facsimile ((505) 667-9998); or by E-mail (CMRR EIS@doeal.gov). Please mark all envelopes, faxes and e-mail: “Draft CMRR EIS Comments”. Copies of the Draft CMRR EIS are also available for review at: the Los Alamos Outreach Center, 1619 Central Avenue, Los Alamos, New Mexico, 87544; and the Zimmerman Library, University of New Mexico, Albuquerque, New Mexico 87131.

Specific information regarding the public hearings can also be obtained by the means described above. Comments concerning the Draft CMRR EIS can be submitted by the means described above or by leaving a message on the EIS Hotline at (toll free) 1-877-491-4957. The Hotline will have instructions on how to record comments.

FOR FURTHER INFORMATION CONTACT: For general information on NNSA NEPA process, please contact: Mr. James Mangeno (NA-3.6), NEPA Compliance Officer for the National Nuclear Security Administration, U.S. Department of Energy, 1000 Independence Avenue SW., Washington, DC 20585, (202) 586-8395. For general information about the DOE NEPA process, please contact: Ms. Carol Borgstrom, Director, Office of NEPA Policy and Compliance (EH-42), U.S. Department of Energy, 1000 Independence Avenue SW., Washington, DC 20585, (202) 586-4600, or leave a message at 1-800-472-2756.

SUPPLEMENTARY INFORMATION: Mission critical CMR capabilities at LANL support NNSA's stockpile stewardship and management strategic objectives. CMR's analytical chemistry, materials characterization, and actinide research and development capabilities are necessary to support the current and future directed stockpile work and campaign activities conducted at LANL. The CMR Building is over 50 years old and approaching end of life. Studies conducted in the late 1990s identified a seismic fault trace located beneath the CMR Building, which greatly increases the level of structural upgrades needed for the building to meet current structural seismic code requirements for a Hazard Category 2 nuclear facility. The CMR Building has been upgraded such that operations can continue, on a restricted basis, in support of national security missions. The CMR Upgrades project was designed to extend the life of the CMR Building through approximately 2010. It would be cost prohibitive to perform the needed repairs, upgrades, and systems retrofitting for long-term (beyond 2010), unrestricted use of the CMR Building.

NNSA cannot perform the assigned LANL mission critical CMR capabilities in the existing CMR Building at an acceptable level of risk to public and worker health and safety without operational restrictions. These operational restrictions preclude the full implementation of the level of operation DOE decided upon through its Record of Decision for the 1999 LANL Site-wide Environmental Impact Statement for the Continued Operation of Los Alamos National Laboratory (DOE/EIS-0238). CMR capabilities are necessary to support the current and directed stockpile work and campaign activities at LANL. By 2010, operations will have been conducted in the existing CMR Building for 60 years; this is the estimated operational life span for nuclear operations at the existing CMR Building. Given that the CMR Building is near the end of its useful life, action is now required by NNSA to assess alternatives for continuing these activities for the succeeding 50 years.

The CMRR EIS evaluates the environmental impacts associated with relocating the CMR capabilities at LANL to new buildings sited at the following alternative locations: (1) Next to the Plutonium Facility at Technical Area 55 (TA-55) at LANL (the Proposed Action), and (2) a “greenfield” site near TA-55 within TA-6. The NNSA also evaluated performing minimal necessary structural and systems upgrades and repairs to portions of the existing CMR Building and continuing the use of these upgraded portions of the structure for administrative offices and support function purposes, as well as evaluating the potential decontamination and demolition of the entire existing CMR Building as disposition options coupled with the alternatives for construction and operation of new nuclear laboratory facilities at the two previously identified locations. The EIS considers the performance of minimal necessary structural and systems upgrades and repairs to the existing CMR Building as a no-action alternative with continued maintenance of limited mission critical CMR capabilities at the CMR Building. NNSA expects to complete the Final CMRR EIS by November 2003. A Record of Decision would be completed no sooner than 30 days after the Final CMRR EIS is issued.

Signed in Washington, DC this 28th day of April, 2003.
Everet H. Beckner,
Deputy Administrator for Defense Programs, National Nuclear Security Administration.

[FR Doc. 03-12164 Filed 5-14-03; 8:45 am]

BILLING CODE 6450-01-P